DEPARTMENT OF COMMERCE

Foreign-Trade Zones Board

[Order No. 1247]

Approval for Expansion of Manufacturing Authority Within Subzone 61G; IPR Pharmaceuticals, Inc., Plant (Pharmaceuticals), Carolina, Puerto Rico

Pursuant to its authority under the Foreign-Trade Zones Act of June 18, 1934, as amended (19 U.S.C. 81a-81u), the Foreign-Trade Zones Board (the Board) adopts the following Order:

Whereas, IPR Pharmaceuticals, Inc. (IPR), operator of SZ 61G, has requested authority to expand the scope of manufacturing activity under zone procedures within Subzone 61G at the IPR plant in Carolina, Puerto Rico (FTZ Docket 5-2002, filed January 17, 2002);

Whereas, notice inviting public comment has been given in the Federal Register (67 FR 3685, January 25, 2002);

Whereas, pursuant to Section 400.32(b)(1) of the FTZ Board regulations (15 CFR part 400), the Secretary of Commerce's delegate on the FTZ Board has the authority to act for the Board in making decisions regarding manufacturing activity within existing zones when the proposed activity is the same, in terms of products involved, to activity recently approved by the Board and similar in circumstances (15 CFR 400.32(b)(1)(i)); and,

Whereas, the Board adopts the findings and recommendations of the examiner's report, and finds that the requirements of the FTZ Act and Board's regulations are satisfied, and that the proposal is in the public interest;

Now, therefore, the Board hereby orders:

The application to expand the scope of authority under zone procedures within Subzone 61G on behalf of IPR Pharmaceuticals, Inc., is approved, subject to the FTZ Act and the Board's regulations, including Section 400.28.

Signed at Washington, DC, this 20th day of September 2002.
Faryar Shirzad,
Assistant Secretary for Import Administration, Alternate Chairman, Foreign-Trade Zones Board.

[FR Doc. 02-25631 Filed 10-7-02; 8:45 am]

BILLING CODE 3510-DS-P